FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Request for Site Inspection, Landowners Authorization/Ingress/Egress Agreement.

Type of Information Collection: Reinstatement without change of a previously approved collection.

OMB Number: 3067-0222.

Abstract: Public Law 93-288, as amended by Public Law 100-707, the Robert T. Stafford Disaster Relief and Emergency Assistance Act, Section 408, authorizes the Federal Emergency Management Agency (FEMA) to provide Temporary Housing Assistance. Mobile homes, travel trailers, or other forms of readily fabricated housing are used to provide housing to eligible victims of federally declared disasters. The collection of this information is required to determine the site feasibility for the placement of a temporary housing unit on the land, and rights of ingress and egress for the unit. FEMA Form 90-1, Request for Site Inspection, is designed to ensure sites for temporary housing units will accommodate the home and comply with local, State and Federal regulations regarding the placement of the temporary housing units; FEMA Form 90-31, Landowner's Authorization/Ingress-Egress Agreement, ensures the landowner (if other than the recipient of the home) will allow the temporary housing unit to be placed on the property; and ensure that routes on ingress and egress to and from the main property are maintained.

Affected Public: Individuals or households.

Number of Respondents: 1,000.

Estimated Time per Respondent: 10 minutes for each form.

Estimated Total Annual Burden Hours: 333.

Frequency of Response: On Occasion.

Comments

Interested persons are invited to submit written comments on the proposed information collection to the Desk Officer for the Federal Emergency Management Agency, Office of Information and Regulatory Affairs, Office of Management and Budget, Washington, DC 20503 on or before March 8, 2000.

FOR FURTHER INFORMATION CONTACT: Requests for additional information or copies of the information collection should be made to Muriel B. Anderson, FEMA Information Collections Officer, Federal Emergency Management Agency, 500 C Street, SW, Room 316, Washington, DC 20472. Telephone number (202) 646-2625. FAX number (202) 646-3524.

Dated: January 13, 2000.
Mike Bozzelli,
Acting Director Program Services Division, Operations Support Directorate.

[FR Doc. 00-2665 Filed 2-4-00; 8:45 am]

BILLING CODE 6718-01-P